NUCLEAR REGULATORY COMMISSION

[Docket No. NRC-2013-0213]

Agency Information Collection Activities: Submission for the Office of Management and Budget (OMB) Review; Comment Request

AGENCY: Nuclear Regulatory Commission.

ACTION: Notice of the OMB review of information collection and solicitation of public comment.

SUMMARY: The U.S. Nuclear Regulatory Commission (NRC) has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number. The NRC published a Federal Register notice with a 60-day comment period on this information collection on September 30, 2013 (78 FR 59979).

1. Type of submission, new, revision, or extension: New.

2. The title of the information collection: Voluntary Reporting of Planned Licensing Request Submittals.

3. Current OMB approval number: 3150-XXXX.

4. The form number if applicable: N/A.

5. How often the collection is required: Annually.

6. Who will be required or asked to report: All operating power reactors whose licensing actions are handled by the Office of Nuclear Reactor Regulation, Division of Operating Reactor Licensing.

7. An estimate of the number of annual responses: 62.

8. The estimated number of annual respondents: 62.

9. An estimate of the total number of hours needed annually to complete the requirement or request: 310.

10. Abstract: The NRC is seeking information on the licensing actions that licensees plan to submit over the next three years. The information would be used by the Office of Nuclear Reactor Regulation to better plan its resource utilization. Specifically, the office would use the information to (1) inform its budget development, (2) identify potential impacts from multiple actions utilizing the same resources, (3) develop solutions, if possible, to resource conflicts, and (4) communicate scheduling impacts to stakeholders.

The public may examine and have copied for a fee publicly available documents, including the final supporting statement, at the NRC's Public Document Room, Room O-1F21, One White Flint North, 11555 Rockville Pike, Rockville, Maryland 20852. The OMB clearance requests are available at the NRC's Web site: http://www.nrc.gov/public-involve/doc-comment/omb/. The document will be available on the NRC's home page site for 60 days after the signature date of this notice.

Comments and questions should be directed to the OMB reviewer listed below by March 3, 2014. Comments received after this date will be considered if it is practical to do so, but assurance of consideration cannot be given to comments received after this date.

Danielle Y. Jones, Desk Officer, Office of Information and Regulatory Affairs (3150-XXXX), NEOB-10202, Office of Management and Budget, Washington, DC 20503.

Comments can also be emailed to Danielle_Y_Jones@omb.eop.gov or submitted by telephone at 202-395-1741.

The Acting NRC Clearance Officer is Kristen Benney, telephone: 301-415-6355.

Dated at Rockville, Maryland, this 27th day of January, 2014.
For the Nuclear Regulatory Commission.
Fajr Majeed,
Acting NRC Clearance Officer, Office of Information Services.

[FR Doc. 2014-01955 Filed 1-30-14; 8:45 am]

BILLING CODE 7590-01-P